DEPARTMENT OF THE TREASURY

Financial Crimes Enforcement Network

Agency Information Collection; Submission for OMB Review; Comment Request; Registration of Money Services Business

AGENCY: Financial Crimes Enforcement Network (FinCEN), Treasury.

ACTION: Submission for OMB review; comment request.

SUMMARY: In accordance with the requirements of the Paperwork Reduction Act of 1995 (44 U.S.C. chapter 35), FinCEN hereby gives notice that it plans to submit to the Office of Management and Budget (OMB) a request to review the information collection in Form TD F 90-22.55, Registration of Money Services Business. On October 10, 2000, FinCEN requested public comment on Form TD F 90-22.55 (65 FR 60246).

DATES: Written comments should be received on or before November 13, 2001 to be assured of consideration.

ADDRESSES: You are invited to submit written comments to FinCEN. In addition, you should send a copy of your comments to the OMB desk officer. Direct all written comments to:

FinCEN: Office of Chief Counsel, Financial Crimes Enforcement Network, Department of the Treasury, P.O. Box 1618, Vienna, Virginia 22183-1618, Attention: PRA Comments—Registration of Money Services Business. Comments also may be submitted by electronic mail to the following Internet address: regcomments@fincen.treas.gov with the caption in the body of the text, “Attention: PRA Comments—Registration of Money Services Business.”

OMB: Alexander T. Hunt, Office of Information and Regulatory Affairs, Office of Management and Budget, New Executive Office Building, Room 3208, Washington, DC 20503.

FOR FURTHER INFORMATION CONTACT: Requests for additional information should be directed to Patrice Motz, FinCEN (800) 949-2732, or Cynthia Clark, FinCEN (703) 905-3590.

SUPPLEMENTARY INFORMATION: Title: Registration of Money Services Business.

OMB Number: Unassigned.

Form Number: TD F 90-22.55.

Type of Review: New information collection.

Affected Public: Business or other for-profit institutions.

Estimated Number of Respondents: 8500.

Estimated Total Annual Responses: 8500.¹

¹ The estimated number of responses is for the year in which a registration form must be filed; because the form is generally required to be filed only every other year, the estimated annual number of responses would be lower.

Estimated Total Annual Burden Hours: Reporting average of 30 minutes per response; recordkeeping average of 15 minutes per response. Estimated total annual burden hours: Reporting burden of 4250 hours; recordkeeping burden of 2125 hours, for an estimated combined total of 6375 hours.²

² The estimated burden is for the year in which a registration form must be filed; because the form is generally required to be filed only every other year, the estimated annual burden would be lower.

An agency may not conduct or sponsor, and a person is not required to respond to, a collection of information unless the collection of information displays a valid OMB control number. Records required to be retained under the Bank Secrecy Act must be retained for five years. Generally, information collected pursuant to the Bank Secrecy Act is confidential, but may be shared as provided by law with regulatory and law enforcement authorities.

Request for Comments

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance and purchase of services to provide information.

Dated: October 4, 2001.
James F. Sloan,
Director, Financial Crimes Enforcement Network.

BILLING CODE 4820-03-P

[FR Doc. 01-25609 Filed 10-11-01; 8:45 am]

BILLING CODE 4820-03-C